INTERNATIONAL TRADE COMMISSION

[Investigation Nos. 701-TA-476 and 731-TA-1179 (Final) (Remand)]

Multilayered Wood Flooring from China

AGENCY: United States International Trade Commission.

ACTION: Notice of remand proceedings

SUMMARY: The U.S. International Trade Commission (“Commission”) hereby gives notice of the court-ordered remand of its final determinations in Investigation Nos. 701-TA-476 and 731-TA-1179 (Final) concerning multilayered wood flooring (“MLWF”) from China. For further information concerning the conduct of these remand proceedings and rules of general application, consult the Commission's Rules of Practice and Procedure, part 201, subparts A through E (19 CFR part 201), and part 207, subpart A (19 CFR part 207).

DATES: Effective Date: May 17, 2013.

FOR FURTHER INFORMATION CONTACT: Fred Ruggles, Office of Investigations, telephone 202-205-3187, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (“EDIS”) at http://edis.usitc.gov.

SUPPLEMENTARY INFORMATION:

Background. In December 2011, the Commission determined by a vote of four to two that an industry in the United States was materially injured by reason of imports of MLWF from China that were sold in the United States at less-than-fair value and subsidized by the Government of China. Swiff-Train Co.; Metropolitan Hardwood Floors, Inc.; BR Custom Surface; Real Wood Floors, LLC; Galleher Corp.; and DPR International, LLC, U.S. importers of the subject merchandise from China, contested the Commission's determination before the U.S. Court of International Trade (“CIT”). The CIT remanded certain issues to the Commission and affirmed all other aspects of the Commission's determinations. Swiff-Train Co. et al. v. United States, Slip. Op. 13-38 at 2, 19-20 (Ct. Int'l Trade Mar. 20, 2013).

Participation in the proceeding. Only those persons who were interested parties to the original investigations (i.e., persons listed on the Commission Secretary's service list) and participated in the appeal proceedings before the CIT may participate in the remand proceedings. Such persons need not re-file their appearance notices or protective order applications to participate in the remand proceedings. Business proprietary information (“BPI”) referred to during the remand proceedings will be governed, as appropriate, by the administrative protective order issued in the original investigations. The Secretary will maintain a service list containing the names and addresses of all persons or their representatives who are parties to the remand proceedings, and the Secretary will maintain a separate list of those authorized to receive BPI under the administrative protective order during the remand proceedings.

Written submissions. As directed by the Court, the Commission is reopening the record in these remand proceedings for the limited purpose of issuing U.S. producer questionnaires to U.S. plywood manufacturers and obtaining their responses. The Commission is not otherwise reopening the record for the collection of new factual information. On June 28, 2013, the Commission will make available any new factual information obtained during the remand proceedings not already served to parties to the investigations (as identified by the public or BPI service list). The Commission will permit the parties to file written comments on any new factual information obtained during the remand proceedings and on the CIT's instructions for the Commission on remand

1. to analyze and reconsider “its decision not to investigate domestic producers of hardwood plywood used for flooring”

2. to “make findings on the issue of price suppression/price depression”

3. to further explain “the impact the subject imports had on the domestic industry in light of {the} collapse of the housing market during the period of investigation” and

4. to “re-evaluate whether the subject imports were the `but-for' cause of material injury to the domestic industry.”

Comments should be limited to no more than fifteen (15) double-spaced and single-sided pages of textual material, inclusive of appendices or other such attachments. The parties may not submit any new factual information in their comments and may not address any issue other than those identified above. Any such comments must be filed with the Commission no later than July 12, 2013.

Parties are advised to consult with the Commission's Rules of Practice and Procedure, part 201, subparts A through E (19 CFR part 201), and part 207, subpart A (19 CFR part 207) for provisions of general applicability concerning written submissions to the Commission. All written submissions, including those that contain BPI, must conform to the Commission's rules. Please be aware that the Commission's rules with respect to electronic filing have been amended. The amendments took effect on November 7, 2011. See 76 FR 61937 (Oct. 6, 2011) and the newly revised Commission Handbook on E-Filing, available on the Commission's Web site at http://edis.usitc.gov.

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

Issued: May 17, 2013.
By order of the Commission.
Lisa R. Barton,
Acting Secretary to the Commission.

[FR Doc. 2013-12153 Filed 5-21-13; 8:45 am]

BILLING CODE 7020-02-P